DEPARTMENT OF ENERGY

Federal Energy Regulatory Commission

[Docket No. ER10-1401-000; Docket No. EL10-76-000]

California Independent System Operator Corporation; Green Energy Express LLC; 21st Century Transmission Holdings, LLC; Notice of Technical Conference

August 3, 2010.

By order dated July 26, 2010, in Docket No. ER10-1401-000, the Federal Energy Regulatory Commission (Commission) directed staff to convene a technical conference regarding California Independent System Operator Corporation's (CAISO) proposed Revised Transmission Planning Process (RTPP).¹ Take notice that such conference will be held on August 24, 2010 at the Commission's headquarters at 888 First Street, Washington, DC 20426, beginning at 9 a.m. (EDT) in the Commission Meeting Room. The technical conference will be led by Commission staff. Commissioners may attend the conference.

¹ Cal. Indep. Sys. Operator Corp., 132 FERC¶ 61,067 (2010).

The purpose of the technical conference is to discuss the issues raised by CAISO's proposed revisions to its Open Access Transmission Tariff (Tariff) to implement its RTPP in Docket No. ER10-1401-000 and obtain additional information regarding CAISO's proposal. Because CAISO's RTPP filing presents issues that may be interrelated with the Petition for Declaratory Order filed by Green Energy Express LLC and 21st Century Transmission Holdings, LLC, in Docket No. EL10-76-000, parties are hereby notified that issues pending in Docket No. EL10-76-000 may be discussed at the technical conference.

CAISO and the parties that choose to participate in the conference should be prepared to address the following topics, among others:

• How the RTPP incorporates participation from all stakeholders, including the California Transmission Planning Group, and complies with the transmission planning principles of Order No. 890;

• How the various categories of transmission projects will be defined and differentiated;

• To what extent non-incumbent transmission developers can sponsor transmission projects identified in the RTPP and become participating transmission owners in the CAISO;

• The selection criteria for projects in the various transmission categories, including which proposals have priority during the evaluation process;

• How projects submitted during the 2008/2009 Request Window will be processed, with respect to both the current Tariff and the proposed RTPP; and

• The integration and coordination of RTPP studies with those done under the Large Generator Interconnection Process, and related assumptions, data, and planning criteria.

A subsequent notice will be issued by the Commission providing an agenda of the conference.

A free webcast of this event will be available through http://www.ferc.gov. Anyone with internet access who desires to listen to this event can do so by navigating http://www.ferc.gov's Calendar of Events and locating this event in the calendar. The event will contain a link to its webcast. The Capitol Connection provides technical support for the webcasts and offers the option of listening to the meeting via phone-bridge for a fee. If you have any questions, visit http://www.CapitolConnection.org or call 703-993-3100.

FERC conferences are accessible under section 508 of the Rehabilitation Act of 1973. For accessibility accommodations please send an e-mail to accessibility@ferc.gov or call toll free 1-866-208-3372 (voice) or 202-208-8659 (TTY); or send a Fax to 202-208-2106 with the required accommodations.

All parties are permitted to attend. For more information on this conference, please contact Robert Petrocelli at Robert.Petrocelli@ferc.gov or (202) 502-8447, or Katie Detweiler at Katie.Detweiler@ferc.gov or (202) 502-6424.

Nathaniel J. Davis, Sr.,
Deputy Secretary.

[FR Doc. 2010-20139 Filed 8-13-10; 8:45 am]

BILLING CODE 6717-01-P